DEPARTMENT OF STATE

[Public Notice: 8360]

60-Day Notice of Proposed Information Collection: Recording, Reporting, and Data Collection Requirements—Student and Exchange Visitor Information System (SEVIS)

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATE(S): The Department will accept comments from the public up to August 26, 2013.

ADDRESSES: You may submit comments by any of the following methods:

• Web: Persons with access to the Internet may use the Federal Docket Management System (FDMS) to comment on this notice by going to www.Regulations.gov. You can search for the document by entering “Public Notice 8360” in the Search bar. If necessary, use the Narrow by Agency filter option on the Results page.

• Email: JExchanges@State.gov.

• Mail (paper, disk, or CD-ROM submissions): U.S. Department of State, ECA/EC, SA-5, Floor 5, 2200 C Street NW., Washington, DC 20522-0505, ATTN: Federal Register Notice Response.

You must include the DS form number (if applicable), information collection title, and the OMB control number in any correspondence.

FOR FURTHER INFORMATION CONTACT: Direct requests for additional information regarding the collection listed in this notice, including requests for copies of the proposed collection instrument and supporting documents, to Robin J. Lerner, Deputy Assistant Secretary for Private Sector Exchange, ECA/EC, SA-5, Floor 5, Department of State, 2200 C Street NW., Washington, DC 20522-0505, who may be reached on 202-632-3206 or at JExchanges@state.gov.

SUPPLEMENTARY INFORMATION: • Title of Information Collection: Recording, Reporting, and Data Collection Requirements Under 22 CFR Part 62 (DS-7000), the Exchange Visitor Program Application (Form DS-3036); and Update of Information on Exchange Visitor Program Sponsor (Form DS-3037).

• OMB Control Number: 1405-0147.

• Type of Request: Revision of a Currently Approved Collection.

• Originating Office: Bureau of Educational and Cultural Affairs, Office for Private Sector Exchange, ECA/EC.

• Form Number: Forms DS-3036, DS-3037 and DS-7000.

• Respondents: U.S. government and public and private organizations wishing to become Department of State designated sponsors authorized to conduct exchange visitor programs, and Department of State designated sponsors.

• Estimated Number of Respondents: 191,675 (DS-3036—60; DS-3037—1,415; DS-7000—190,200).

• Estimated Number of Responses: 1,572,462 (DS-3036—60; DS-3037—2,830; DS-7000—1,569,302).

• Average Hours per Response: DS-3036—8 hours; DS-3037—20 minutes; DS-7000—45 minutes.

• Total Estimated Burden: 1,302,807 hours (DS-3036—480 hours; DS-3037—943 hours; DS-7000—1,301,384 hours).

• Frequency: On Occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The collection is the continuation of information collected and needed by the Bureau of Educational and Cultural Affairs in administering the Exchange Visitor Program (J-Visa) under the provisions of the Mutual Educational and Cultural Exchange Act, as amended (22 U.S.C. 2451, et seq.). Form DS-3036 has been revised to add a new certification for Responsible Officers and update Office addresses.

Methodology: Access to Forms DS-3036 and DS-3037 are found in the Student and Exchange Visitor Information System (SEVIS).

Dated: June 18, 2013.
Robin J. Lerner,
Deputy Assistant Secretary for Private Sector Exchange, Bureau of Educational and Cultural Affairs, Department of State.

[FR Doc. 2013-15303 Filed 6-25-13; 8:45 am]

BILLING CODE 4710-05-P